FEDERAL COMMUNICATIONS COMMISSION

47 CFR Parts 1, 2, and 27

[WT Docket No. 19-116; DA 25-15; FR ID 275150]

Wireless Telecommunications Bureau Seeks To Supplement the Record on Proposed Rules To Re-Allocate 1675-1680 MHz Band

AGENCY: Federal Communications Commission.

ACTION: Proposed rule.

SUMMARY: In this document, the Wireless Telecommunications Bureau of the Federal Communications Commission (Commission) seeks to supplement the record concerning the rules proposed in a 2019 Notice of Proposed Rulemaking adopted in the Allocation and Service Rules for the 1675-1680 MHz Band rulemaking that proposed to reallocate the 1675-1680 MHz band for shared use between incumbent federal operators and new, non-federal flexible wireless (fixed or mobile) use operations.

DATES: Comments are due February 28, 2025. Reply comments are due March 17, 2025.

ADDRESSES: You may submit comments, identified by WT Docket No. 19-116, by any of the following methods:

Federal Communications Commission's Website: https://apps.fcc.gov/ecfs/. Follow the instructions for submitting comments.

People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Scott Mackoul, Wireless Telecommunications Bureau, Mobility Division, 202-418-7498, scott.mackoul@fcc.gov.

SUPPLEMENTARY INFORMATION: This is a summary of the Commission's document, DA 25-15, released January 8, 2025, by the Commission's Wireless Telecommunications Bureau. The full text of the document is available at https://www.fcc.gov/document/wtb-seeks-supplement-1675-1680-mhz-band-record.

Filing Requirements

Interested parties may file comments and reply comments on or before the dates indicated in the DATES section above.

• Electronic Filers. Comments may be filed electronically using the internet by accessing the Commission's Electronic Comment Filing System (ECFS) at http://apps.fcc.gov/ecfs.

• Paper Filers. Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701.

• Filings sent by U.S. Postal Service First-Class Mail, Priority Mail, and Priority Mail Express must be sent to 45 L Street NE, Washington, DC 20554.

Persons With Disabilities

To request materials in accessible formats for people with disabilities (braille, large print, electronic files, audio format), send an email to fcc504@fcc.gov or call the Consumer & Governmental Affairs Bureau at 202-418-0530 (voice) or 202-418-0432 (TTY).

Ex Parte Presentations

The Commission will treat this proceeding as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with 47 CFR 1.1206(b). In proceedings governed by 47 CFR 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Regulatory Flexibility Analysis

The NPRM included an Initial Regulatory Flexibility Analysis (IRFA) pursuant to 5 U.S.C. 603, exploring the potential impact on small entities of the Commission's proposals. The Commission invites parties to file supplemental comments on the IRFA in light of the request to refresh the record.

Providing Accountability Through Transparency Act

Consistent with the Providing Accountability Through Transparency Act, Public Law 118-9, a summary of this document is available on https://www.fcc.gov/proposed-rulemakings.

Synopsis

In the document, the Commission's Wireless Telecommunications Bureau (Bureau) seeks to supplement the record on a proposal to re-allocate the 1675-1680 MHz band for shared use between incumbent federal operations and non-federal fixed or mobile operations on a co-primary basis. The Bureau seeks additional comment particularly in light of a recent filing in the proceeding by the National Telecommunications and Information Administration (NTIA) providing a follow-on report of the National Oceanic and Atmospheric Administration (NOAA) regarding the potential for sharing of spectrum at the 1675-1680 MHz between incumbent federal and new non-federal operations.

In May 2019, the Commission released a Notice of Proposed Rulemaking (NPRM) (84 FR 23508, May 22, 2019) proposing to re-allocate the 1675-1680 MHz band for shared use between incumbent federal operations (extensively used by NOAA for satellite downlinks and weather ballons) and non-federal fixed or mobile operations on a co-primary basis. The NPRM proposed and sought comment on the use of competitive bidding to award licenses, as well as service and technical rules. The Commission received numerous comments on the NPRM.

Since the Commission last sought comment, there have been a number of developments in the proceeding, including a report prepared by NOAA and filed by NTIA in 2022 and a follow-on report prepared by NOAA and filed by NTIA in November 2024 that concluded that it is technically feasible to share the 1675-1680 MHz band used by NOAA for transmission of time-sensitive satellite data with commercial wireless services, subject to certain conditions.

In light of the recent filing of the NOAA follow-on report, the Bureau is providing an opportunity for additional comment in order to ensure an up-to-date record. Accordingly, the Bureau invites stakeholders to provide additional comment after reviewing the existing record in this proceeding.

Federal Communications Commission.
Amy Brett,
Chief of Staff, Wireless Telecommunications Bureau.

[FR Doc. 2025-01535 Filed 1-28-25; 8:45 am]

BILLING CODE 6712-01-P